DEPARTMENT OF TRANSPORTATION

National Highway Traffic Safety Administration

[NHTSA Docket No. NHTSA-2010-0084]

Meeting Notice—Federal Interagency Committee on Emergency Medical Services

AGENCY: National Highway Traffic Safety Administration (NHTSA), DOT.

ACTION: Meeting Notice—Federal Interagency Committee on Emergency Medical Services.

SUMMARY: NHTSA announces a meeting of the Federal Interagency Committee on Emergency Medical Services (FICEMS) to be held in Washington, DC area. This notice announces the date, time and location of the meeting, which will be open to the public.

DATES: The meeting will be held on June 24, 2010, from 9 a.m. to 12 p.m.

ADDRESSES: The meeting will be held at the White House Conference Center, 726 Jackson Place, Washington, DC.

FOR FURTHER INFORMATION CONTACT: Drew Dawson, Director, Office of Emergency Medical Services, National Highway Traffic Safety Administration, 1200 New Jersey Avenue, SE., NTI-140, Washington, DC 20590, Telephone number (202) 366-9966; E-mail Drew.Dawson@dot.gov.

SUPPLEMENTARY INFORMATION: Section 10202 of the Safe, Accountable, Flexible, Efficient Transportation Equity Act: A Legacy For Users (SAFETEA-LU), Public Law 109-59, provided that the FICEMS consist of several officials from Federal agencies as well as a State emergency medical services director appointed by the Secretary of Transportation. SAFETEA-LU directed the Administrator of NHTSA, in cooperation with the Administrator of the Health Resources and Services Administration of the Department of Health and Human Services and the Director of the Preparedness Division, Directorate of Emergency Preparedness and Response of the Department of Homeland Security, to provide administrative support to the Interagency Committee, including scheduling meetings, setting agendas, keeping minutes and records, and producing reports.

This meeting of the FICEMS will focus on addressing the requirements of SAFETEA-LU and the opportunities for collaboration among the key Federal agencies involved in emergency medical services. The agenda will include:

• Discussion of Response to Recommendations from National Transportation Safety Board (NTSB).

○ Report on Helicopter Emergency Medical Services.

○ Mexican Hat, UT Crash and Recommendations to FICEMS.

• Reports and updates from Technical Working Group committees.

• Reports, updates, recommendations from FICEMS members.

• Discussion on the impact of Health Care Reform on EMS.

This meeting will be open to the public. Individuals wishing to register must provide their name, affiliation, phone number, and e-mail address to Drew Dawson by e-mail at Drew.Dawson@dot.gov or by telephone at (202) 366-9966 no later than June 21, 2010. Pre-registration is necessary.

Minutes of the FICEMS Meeting will be available to the public online through the DOT Document Management System (DMS) at: http://www.regulations.gov under the docket number listed at the beginning of this notice.

Issued on: June 11, 2010.
Jeffrey P. Michael,
Associate Administrator for Research and Program Development.

[FR Doc. 2010-14482 Filed 6-15-10; 8:45 am]

BILLING CODE 4910-59-P